DEPARTMENT OF COMMERCE

National Oceanic and Atmospheric Administration

[RTID 0648-XA612]

Takes of Marine Mammals Incidental to Specified Activities; Taking Marine Mammals Incidental to Marine Site Characterization Surveys; Correction

AGENCY: National Marine Fisheries Service (NMFS), National Oceanic and Atmospheric Administration (NOAA), Commerce.

ACTION: Notice; correction.

SUMMARY: On October 8, 2020, a notice was published in the Federal Register announcing the issuance of an incidental harassment authorization (IHA) for take of marine mammals incidental to marine site characterization surveys in coastal waters from New York to Massachusetts. That document inadvertently omitted NMFS' response to a recommendation from the Marine Mammal Commission, and contained a grammatical error. This document corrects these errors; all other information is unchanged.

FOR FURTHER INFORMATION CONTACT: Carter Esch, Office of Protected Resources, NMFS, (301) 427-8421.

SUPPLEMENTARY INFORMATION:

Background

NMFS published a notice in the Federal Register on October 8, 2020 (85 FR 65308) announcing that an IHA had been issued to Ørsted Wind Power North America, LLC, authorizing the take of marine mammals incidental to marine site characterization surveys in coastal waters from New York to Massachusetts, effective for one year from the date of issuance. NMFS refers the reader to the October 8, 2020, Federal Register notice (85 FR 65308) for background information concerning the IHA. The information in the notice of issuance is not repeated here. As published, the notice of issuance contains errors which are corrected here.

Correction

1. In FR Doc. 2020-22307, on page 63509 in the second column, the response to Comment 1 is corrected to read as follows:

Comment 1: The Commission assesses that “it is reasonable to conclude that incidental taking of marine mammals could occur” as a result of Ørsted's specified activity, while asserting that the size of the Level B harassment zones is overestimated. Given this, the Commission states that the required mitigation (e.g., implementation of shutdown upon observation of marine mammals within defined zones) would “minimize” the potential for marine mammal takes to occur and, as a result, states its belief that issuance of an IHA for the proposed activities is unnecessary.

Response: NMFS appreciates the Commission's consideration of the proposed IHA and will consider the Commission's position in the future, should further take authorization requests be received for similar activities. As it relates to this activity, Ørsted has requested the authorization of take and NMFS has acted on that request, as required by the MMPA. As the Commission notes, it is reasonable to conclude that incidental taking could occur and, while NMFS shares the opinion that the prescribed mitigation may be effective in avoiding take for these activities, we have evaluated and authorized the take that could occur as precautionarily requested by Ørsted. As described herein, NMFS has issued the requested IHA to Ørsted.

2. On page 63517 in the third column, the final sentence is corrected to read as follows:

As described above, NMFS has determined that the likelihood of take of any marine mammals in the form of Level A harassment occurring as a result of the surveys is so low as to be discountable; therefore, we do not authorize take of any marine mammals by Level A harassment.

Dated: November 3, 2020.
Donna Wieting,
Director, Office of Protected Resources, National Marine Fisheries Service.

[FR Doc. 2020-24715 Filed 11-5-20; 8:45 am]

BILLING CODE 3510-22-P